POSTAL SERVICE

Information-Based Indicia Program (IBIP) Performance Criteria for Information-Based Indicia and Security Architecture for Open IBI Postage Evidencing Systems (PCIBI-O)

AGENCY: Postal Service.

ACTION: Notice of availability of Performance Criteria, with request for comments.

SUMMARY: The Postal Service has compiled a revised draft functional Performance Criteria for open systems of the Information-Based Indicia program (IBIP), as defined in this release. The current release contains the performance criteria for the Indicium, the Postal Security Device (PSD), the Host System, and the IBIP Key Infrastructure components of an open IBI system. The Postal Service also seeks comments on intellectual property issues raised by IBIP Performance Criteria, policy, and procedures if adopted in present form. If an intellectual property issue includes patents or patent applications covering any implementations of the Performance Criteria, the comment should include a listing of such patents and applications and the license terms available for such patents and applications.

ADDRESSES: Copies of the Performance Criteria noted above may be downloaded from the IBIP Web site at http://www.usps.com/ibip/welcome.htm, or obtained from Edmund Zelickman, United States Postal Service, 475 L'Enfant Plaza SW, Room 1P-801, Washington, DC 20260-2444. Copies of all written comments may be inspected, by appointment, between 9 a.m. and 4 p.m., Monday through Friday, at the above address.

DATES: All written comments must be received on or before May 9, 2000.

FOR FURTHER INFORMATION CONTACT: Dan Lord, (202) 268-4599.

Stanley F. Mires,
Chief Counsel, Legislative.

[FR Doc. 00-5961 Filed 3-9-00; 8:45 am]

BILLING CODE 7710-12-U